INTERNATIONAL TRADE COMMISSION

19 CFR Part 210

Adjudication and Enforcement

AGENCY: U.S. International Trade Commission.

ACTION: Final rule.

SUMMARY: The U.S. International Trade Commission is adopting a rule amendment revising a certain provision of the agency's rule for investigations and related proceedings under section 337 of the Tariff Act of 1930. The Supplement to the Strategic Human Capital Plan 2009-2013 issued by the Commission on January 18, 2011, provides that the Office of Unfair Import Investigations (“OUII”) will not participate in a subset of Section 337 cases and will participate selectively in another subset of cases. In order to better allocate its resources, OUII may have to assign attorneys to investigations on an issue by issue basis. The rule amendment will allow OUII the flexibility to reassign attorneys to cases as necessary without having to publish notices announcing the change in the Federal Register. The new rule will have no substantive effect on Commission practice in conducting Section 337 investigations.

DATES: Effective date: May 2, 2011.

Applicability Date: The Commission will adopt procedures to implement the rule change on May 2, 2011.

FOR FURTHER INFORMATION CONTACT: Megan M. Valentine, Esq., telephone 202-708-2301, Office of the General Counsel, U.S. International Trade Commission, 500 E Street, SW., Washington, DC 20436. General information concerning the Commission may be obtained by accessing its Internet server (http://www.usitc.gov). Hearing-impaired persons is advised that information on the final rulemaking can be obtained by contacting the Commission's TDD terminal on 202-205-1810.

SUPPLEMENTARY INFORMATION: The Commission is adopting the following rule amendment as a final rule.

Regulatory Analysis

The Commission has determined that the final rule does not meet the criteria described in Section 3(f) of Executive Order 12866 (58 FR 51735, Oct. 4, 1993) and thus does not constitute a significant regulatory action for purposes of the Executive Order.

The Regulatory Flexibility Act (5 U.S.C. 601 et seq.) is inapplicable to this rulemaking because it is not one for which a notice of rulemaking is required under 5 U.S.C. 553(b) or any other statute. Although the Commission has chosen to publish a notice of final rulemaking, the regulation is an “agency rule of procedure and practice,” and thus is exempt from the notice requirement imposed by 5 U.S.C. 553(b).

This final rule does not contain federalism implications warranting the preparation of a federalism summary impact statement pursuant to Executive Order 13132 (64 FR 43255, Aug. 4, 1999).

No actions are necessary under the Unfunded Mandates Reform Act of 1995 (2 U.S.C. 1501 et seq.) because the final rule will not result in the expenditure by State, local, and tribal governments, in the aggregate, or by the private sector, of $100,000,000 or more in any one year, and will not significantly or uniquely affect small governments.

The final rule is not a major rule as defined by section 804 of the Small Business Regulatory Enforcement Fairness Act of 1996 (5 U.S.C. 801 et seq.). Moreover, it is exempt from the reporting requirements of the Contract With America Advancement Act of 1996 (Pub. L. 104-121) because it concerns a rule of agency organization, procedure, or practice that does not substantially affect the rights or obligations of non-agency parties.

The amendment is not subject to section 3504(h) of the Paperwork Reduction Act (44 U.S.C. 3501 et seq.), since it does not contain any new information collection requirements.

List of Subjects in 19 CFR Part 210

Administration practice and procedure, Business and industry, Customs duties and inspection, Imports, Investigations.

The United States International Trade Commission amends 19 CFR part 210 as follows:

PART 210—ADJUDICATION AND ENFORCEMENT

1. The authority citation for part 210 continues to read as follows:

Authority: 19 U.S.C. 1333, 1335, and 1337.

2. In § 210.3 revise the definition of “Party” to read as follows:

210.3 Definitions.

* * * * *

Party means each complainant, respondent, intervenor, or the Office of Unfair Import Investigations.

* * * * *

By Order of the Commission.
Issued: April 27, 2011.
William R. Bishop,
Acting Secretary to the Commission.

[FR Doc. 2011-10552 Filed 4-29-11; 8:45 am]

BILLING CODE 7020-02-P